DEPARTMENT OF ENERGY

Energy Information Administration

Agency Information Collection Activities: Submission for Emergency OMB Review; Comment Request

AGENCY: Energy Information Administration (EIA), Department of Energy (DOE).

ACTION: Agency information collection activities: Submission for Emergency OMB Review; comment request.

SUMMARY: The EIA has submitted the energy information collections listed at the end of this notice to the Office of Management and Budget (OMB) for emergency processing under section 3507(j)(1) of the Paperwork Reduction Act of 1995 (Pub. L. 104-13) (44 U.S.C. 3501 et seq.) by January 3, 2001. The reason for this emergency clearance request is that Congress has funded an EIA project in Fiscal Year 2001 to institute a bi-weekly survey of companies during the heating season to monitor interruptible natural gas contracts. For this project EIA is proposing three related information collections. Information will be collected from natural gas suppliers, petroleum product suppliers, and a sample of major energy consumers in the Northeast United States to assess energy activities, especially volumes of fuel switching between natural gas and petroleum fuels. Normal clearance procedures would prevent the timely collection of information during the 2000-2001 heating season.

DATES: Comments must be filed by January 2, 2001.

ADDRESSES: Send comments to the OMB Desk Officer for DOE, Office of Information and Regulatory Affairs, Office of Management and Budget, 726 Jackson Place, NW., Washington, DC. 20503. The OMB DOE Desk Officer may be telephoned at (202) 395-7318. (A copy of your comments should also be provided to EIA's Statistics and Methods Group at the address below.)

FOR FURTHER INFORMATION CONTACT: Requests for additional information should be directed to Herbert Miller, Statistics and Methods Group, (EI-70), Forrestal Building, U.S. Department of Energy, Washington, DC. 20585-0670. Mr. Miller may be contacted by telephone at (202) 287-1711, FAX at (202) 287-1705, or e-mail at Herbert.Miller@eia.doe.gov.

SUPPLEMENTARY INFORMATION: This section contains the following information about the energy information collection submitted to OMB for review: (1) The collection number and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Forms EIA-911A-C, “Bi-Weekly Surveys to Assess Effects of Interruptions of Natural Supplies in the Northeast United States”

2. Energy Information Administration

3. OMB Number 1905-NEW

4. New (emergency clearance request)

5. Mandatory

6. Beginning with the period January 1-14, 2001 and continuing through the two-week period ending April 8, 2001, forms EIA-911A-C will collect information for use in assessing the interactions of energy markets in the Northeast United States. The survey requests will include: (1) Information from natural gas suppliers on deliveries and interruptions in service to customers; (2) information from petroleum product suppliers on sales, inventories, and customers that can switch between natural gas and petroleum; and (3) information from large energy consumers regarding energy-related matters. Data will be used to monitor energy supply and consumption activities in the Northeast U.S. Respondents will be natural gas suppliers, petroleum product suppliers, and a sample of large energy consumers (e.g., electric power generators, industrial establishments, commercial establishments, institutional facilities, and government facilities) in the Northeast United States (i.e., the states of Maine, New Hampshire, Vermont, Massachusetts, Connecticut, Rhode Island, New York, New Jersey, and Pennsylvania).

7. Businesses or other for-profit; Federal Government; Not-for-profit institutions; and State, Local or Tribal Governments

8. 6,650 total burden hours; EIA-911A (natural gas suppliers) will entail 560 total burden hours (40 respondents × 7 reports × 2 hours/report); EIA-911B (petroleum product suppliers) will entail 1,890 total burden hours (270 respondents × 7 reports × 1 hour/report); EIA-911C (large energy consumers) will entail 4,200 total burden hours (300 respondents × 7 reports × 2 hours/report)

Statutory Authority: Section 3507(j)(1) of the Paperwork Reduction Act of 1995 (Pub. L. 104-13).

Issued in Washington, DC., December 20, 2000.
Jay H. Casselberry,
Agency Clearance Officer, Statistics and Methods Group, Energy Information Administration.

[FR Doc. 00-32859 Filed 12-22-00; 8:45 am]

BILLING CODE 6450-01-P